OFFICE OF PERSONNEL MANAGEMENT

5 CFR Part 890

[Docket ID: OPM-2023-0037]

RIN 3206-AO47

Federal Employees Health Benefits Program: Modification of Effective Date of Coverage for Employees With an Initial Opportunity To Enroll

AGENCY: Office of Personnel Management.

ACTION: Withdrawal of proposed rule.

SUMMARY: The Office of Personnel Management withdraws a proposed rule published on February 1, 2024. The notice of proposed rulemaking proposed to modify the Federal Employees Health Benefits (FEHB) regulations and would have also applied to the Postal Service Health Benefits (PSHB) Program, to allow for coverage to take effect as soon as an employee becomes eligible for coverage under the FEHB Program.

DATES: OPM withdraws the proposed rule as of February 3, 2026.

ADDRESSES: The docket for this withdrawn rule is available at https://www.regulations.gov/docket/OPM-2023-0037.

FOR FURTHER INFORMATION CONTACT: Meredith Gitangu by email at meredith.gitangu@opm.gov or by telephone at 202-606-2378.

SUPPLEMENTARY INFORMATION: On February 1, 2024, the Office of Personnel Management (OPM) published a notice of proposed rulemaking (NPRM or proposed rule) titled “Federal Employees Health Benefits Program: Modification of Effective Date of Coverage for Employees with an Initial Opportunity to Enroll,” in the Federal Register. See 89 FR 6436. The NPRM proposed to modify the Federal Employees Health Benefits (FEHB) regulations to allow for coverage to take effect as soon as an employee becomes eligible for coverage under the FEHB Program. The rulemaking would have also applied to the Postal Service Health Benefits (PSHB) Program within the FEHB Program. The proposed changes would have allowed FEHB and PSHB coverage to become effective at the beginning of the pay period that the employee in pay status has an initial opportunity to enroll.

In response to the NPRM, OPM received approximately 47 comments during the 60-day comment period which ended on April 1, 2024. Some commenters raised significant implementation and legal concerns with the proposal.

OPM is withdrawing the proposed rule and does not intend to issue a final rule. OPM did not receive widespread support from the larger federal employee population or agency partners, including those from outside the executive branch that would have been impacted by the changes in the proposed rule. We have determined that pursuing a final rule does not align with current needs, priorities, and objectives. Further, the associated costs are not an effective use of limited agency resources and valuable taxpayer dollars.

The Director of OPM, Scott Kupor, reviewed and approved this document and has authorized the undersigned to electronically sign and submit this document to the Office of the Federal Register for publication.

Office of Personnel Management.
Jerson Matias,
Federal Register Liaison.

[FR Doc. 2026-02192 Filed 2-2-26; 8:45 am]

BILLING CODE 6325-63-P